DEPARTMENT OF THE INTERIOR

Bureau of Land Management

[NM-510-1610-DT]

Notice of Availability of Record of Decision for the Special Status Species Approved Resource Management Plan Amendment

AGENCY: Bureau of Land Management, Interior.

ACTION: Notice of Availability.

SUMMARY: In accordance with the National Environmental Policy Act of 1969, the Federal Land Policy and Management Act of 1976, and the Bureau of Land Management (BLM) management policies, the BLM announces the availability of the Record of Decision (ROD)/Special Status Species Approved Resource Management Plan Amendment (RMPA) for portions of the Carlsbad and Roswell Field Offices. The New Mexico State Director will sign the ROD, which constitutes the final decision of the BLM and makes the Approved RMP effective immediately.

ADDRESSES: Copies of the ROD/Approved RMPA are available upon request from the Pecos District Manager, Pecos District Office, BLM, 2909 W. Second St., Roswell, New Mexico 99201; or via the Internet at http://www.blm.gov. Copies are also available at the Carlsbad Field Office, BLM, 620 E. Greene St., Carlsbad, New Mexico 88220.

FOR FURTHER INFORMATION CONTACT: Howard Parman, Planning Team Leader, Roswell Field Office, 2909 W. Second St., Roswell, New Mexico 88201, (575) 627-0212, or via e-mail at howard_parman@blm.gov.

SUPPLEMENTARY INFORMATION: The Approved Special Status Species RMPA contains management prescriptions to ensure the continued habitat protection of two special status species, the lesser prairie-chicken (Tympanuchus pallidicinctus) and the sand dune lizard (Sceloporus arenicolus), while allowing other resource uses and activities to continue in the Planning Area. The Planning Area for the Special Status Species RMPA, which includes approximately 850,000 acres of BLM-administered public lands and 1.15 million acres of Federal minerals, is located in Chaves, Eddy, Lea, and Roosevelt Counties, New Mexico. A map of the Planning Area is available on the BLM New Mexico Web site at http://www.nm.blm.gov. The BLM provided numerous avenues and opportunities for meaningful public participation throughout the planning process. Chaves, Eddy, and Lea Counties, the New Mexico Department of Agriculture, State Land Office, and Department of Game and Fish participated as cooperating agencies. The BLM tribal government consultation included the Ysleta Del Sur Pueblo, Mescalero Apache Tribe, Apache Tribe of Oklahoma, Kiowa Tribe, and the Comanche Tribe of Oklahoma. In 2005, public scoping meetings were conducted to help identify planning issues. Identified issues encompassed, but were not limited to, the development of energy resources, special management designations, special status species management, livestock grazing, and off-highway vehicle designations. The Draft RMPA/Environmental Impact Statement (EIS) was released to the public for a 90-day comment period in October 2006. The BLM hosted public meetings in Roswell, Carlsbad, Artesia, and Hobbs, New Mexico, and Midland, Texas, to answer questions about the document, as well as to solicit comments from the public.

The ROD/Approved RMPA selects the Preferred Alternative, Alternative B, which was identified in the Proposed RMPA/Final EIS. Alternative B adopts concepts of a Conservation Strategy that was developed by a stakeholder group during the planning process, and adds measures to provide greater protection of lesser prairie-chicken and sand dune lizard habitat. In addition to the Preferred Alternative, the BLM will also establish the Lesser Prairie-Chicken Habitat Preservation Area of Critical Environmental Concern (ACEC). This ACEC is a modification of the proposed ACEC as described in Alternative E of the Draft RMPA/EIS and Proposed RMPA/Final EIS. The purpose of the ACEC is to maintain and enhance habitat for the lesser prairie-chicken and sand dune lizard. The decision to designate this ACEC is because the lesser prairie-chicken has a high potential for listing as a threatened or endangered species by the U.S. Fish and Wildlife Service (FWS). The FWS will review the status of the lesser prairie-chicken in 2009; therefore, the establishment of this ACEC is to help mitigate the potential for listing this species through the provision of specific management prescriptions. The Lesser Prairie-Chicken ACEC comprises 37,082 public land surface acres and 46,902 acres of Federal mineral estate.

The Proposed RMPA/Final EIS was published on November 2, 2007. The Governor's 60-day consistency review resulted in no comments from the Governor's office. The BLM received one protest to the Proposed RMPA/Final EIS. No changes were made to the RMPA based on the protest, which was dismissed by the Director of the BLM. As a result, only minor editorial modifications were made in preparing the Approved RMPA, with the exception of adding the Lesser Prairie-Chicken ACEC to the final decision. These modifications provided further clarification of some of the decisions.

Linda S.C. Rundell,
New Mexico State Director.

[FR Doc. E8-9605 Filed 5-1-08; 8:45 am]

BILLING CODE 4310-FB-P